INTERNATIONAL TRADE COMMISSION

[Investigations Nos. 701-TA-420 and 421 (Final)]

Carbon and Certain Alloy Steel Wire Rod From Trinidad and Tobago and Turkey

AGENCY: International Trade Commission.

ACTION: Termination of investigations.

SUMMARY: On August 30, 2002, the Department of Commerce published notice in the Federal Register of final negative countervailing duty determinations in connection with the subject investigations (67 FR 55810 and 55815). Accordingly, pursuant to § 207.40(a) of the Commission's rules of practice and procedure (19 CFR 207.40(a)), the countervailing duty investigations concerning carbon and certain alloy steel wire rod from Trinidad and Tobago and Turkey (investigations Nos. 701-TA-420 and 421 (Final)) are terminated.

EFFECTIVE DATE: August 30, 2002.

FOR FURTHER INFORMATION CONTACT: Mary Messer (202-205-3193), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS-ON-LINE) at http://dockets.usitc.gov/eol/public.

Authority: These investigations are being terminated under authority of title VII of the Tariff Act of 1930; this notice is published pursuant to § 201.10 of the Commission's rules (19 CFR 201.10).

By order of the Commission.
Issued: September 27, 2002.
Marilyn R. Abbott,
Secretary to the Commission.

[FR Doc. 02-25113 Filed 10-2-02; 8:45 am]

BILLING CODE 7020-02-P